DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on June 9, 2025. See Supplementary Information section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On June 9, 2025, OFAC determined that one or more persons identified below meet one or more of the criteria for the imposition of sanctions set forth in section 1(a)-(c) of Executive Order 14059 of December 15, 2021, “Imposing Sanctions on Foreign Persons Involved in the Global Illicit Drug Trade,” 86 FR 71549 (E.O. 14059). OFAC has selected to impose blocking sanctions pursuant to section 2(a)(i) of E.O. 14059 on the persons identified below.

OFAC further determined that the persons identified below meet one or more of the criteria for designation pursuant to Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended).

As a result, the property and interests in property subject to U.S. jurisdiction of the following persons are blocked under the relevant sanctions authorities listed below.

Individuals

1. BARRAZA PABLOS, Victor Manuel (a.k.a. “El 40”), Culiacan, Sinaloa, Mexico; DOB 17 Jul 1990; POB Culiacan, Sinaloa, Mexico; nationality Mexico; Gender Male; Secondary sanctions risk: section 1(b) of Executive Order 13224, as amended by Executive Order 13886; Passport G37777562 (Mexico); C.U.R.P. BAPV900717HSLRBC05 (Mexico) (individual) [SDGT] [ILLICIT-DRUGS-EO14059] (Linked To: SINALOA CARTEL).

Designated pursuant to section 1(b)(iii) of E.O. 14059 for being owned, controlled, or directed by, or having acted or purported to act for or on behalf of, directly or indirectly, the Sinaloa Cartel, a person whose property and interests in property are blocked pursuant to E.O. 14059.

Designated pursuant to section 1(a)(iii)(A) of E.O. 13224, as amended, for being owned, controlled, or directed by, or having acted or purported to act for or on behalf of, directly or indirectly, the Sinaloa Cartel, a person whose property and interests in property are blocked pursuant to E.O. 13224, as amended.

2. GUZMAN SALAZAR, Archivaldo Ivan (a.k.a. GUZMAN SALAZAR, Ivan Archivaldo; a.k.a. “Chapito”; a.k.a. “Tocallo”), Culiacan, Sinaloa, Mexico; DOB 15 Aug 1983; POB Durango, Mexico; nationality Mexico; Gender Male; Secondary sanctions risk: section 1(b) of Executive Order 13224, as amended by Executive Order 13886; C.U.R.P. GUSA830815HDGZLR06 (Mexico) (individual) [SDNTK] [SDGT] [ILLICIT-DRUGS-EO14059] (Linked To: SINALOA CARTEL).

Designated pursuant to section 1(a)(iii)(A) of E.O. 13224, as amended, for being owned, controlled, or directed by, or having acted or purported to act for or on behalf of, directly or indirectly, the Sinaloa Cartel, a person whose property and interests in property are blocked pursuant to E.O. 13224, as amended.

3. GUZMAN SALAZAR, Jesus Alfredo (a.k.a. “Alfredito”; a.k.a. “Menor”), Culiacan, Sinaloa, Mexico; DOB 17 May 1986; POB Jalisco, Mexico; nationality Mexico; Gender Male; Secondary sanctions risk: section 1(b) of Executive Order 13224, as amended by Executive Order 13886; C.U.R.P. GUSJ860517HJCZLS06 (Mexico) (individual) [SDNTK] [SDGT] [ILLICIT-DRUGS-EO14059] (Linked To: SINALOA CARTEL).

Designated pursuant to section 1(a)(iii)(A) of E.O. 13224, as amended, for being owned, controlled, or directed by, or having acted or purported to act for or on behalf of, directly or indirectly, the Sinaloa Cartel, a person whose property and interests in property are blocked pursuant to E.O. 13224, as amended.

4. NUNEZ RIOS, Jose Raul (a.k.a. “El Lic”), Mazatlan, Sinaloa, Mexico; DOB 11 Oct 1981; POB Sinaloa, Mexico; nationality Mexico; Gender Male; Secondary sanctions risk: section 1(b) of Executive Order 13224, as amended by Executive Order 13886; C.U.R.P. NURR811011HSLXSL01 (Mexico) (individual) [SDGT] [ILLICIT-DRUGS-EO14059] (Linked To: SINALOA CARTEL).

Designated pursuant to section 1(b)(iii) of E.O. 14059 for being owned, controlled, or directed by, or having acted or purported to act for or on behalf of, directly or indirectly, the Sinaloa Cartel, a person whose property and interests in property are blocked pursuant to E.O. 14059.

Designated pursuant to section 1(a)(iii)(A) of E.O. 13224, as amended, for being owned, controlled, or directed by, or having acted or purported to act for or on behalf of, directly or indirectly, the Sinaloa Cartel, a person whose property and interests in property are blocked pursuant to E.O. 13224, as amended.

5. URIAS VAZQUEZ, Sheila Paola (a.k.a. URIAS DE NUNEZ, Sheila Paola), Mazatlan, Sinaloa, Mexico; DOB 14 Mar 1994; POB Mazatlan, Sinaloa, Mexico; nationality Mexico; Gender Female; Secondary sanctions risk: section 1(b) of Executive Order 13224, as amended by Executive Order 13886; Passport G34401694 (Mexico); C.U.R.P. UIVS940314MSLRZH02 (Mexico) (individual) [SDGT] [ILLICIT-DRUGS-EO14059] (Linked To: NUNEZ RIOS, Jose Raul).

Designated pursuant to section 1(b)(iii) of E.O. 14059 for being owned, controlled, or directed by, or having acted or purported to act for or on behalf of, directly or indirectly, Jose Raul Nunez Rios, a person whose property and interests in property are blocked pursuant to E.O. 14059.

Designated pursuant to section 1(a)(iii)(A) of E.O. 13224, as amended, for being owned, controlled, or directed by, or having acted or purported to act for or on behalf of, directly or indirectly, Jose Raul Nunez Rios, a person whose property and interests in property are blocked pursuant to E.O. 13224, as amended.

Entities

1. BEACH Y MARINA, S.A. DE C.V., Mazatlan, Sinaloa, Mexico; Secondary sanctions risk: section 1(b) of Executive Order 13224, as amended by Executive Order 13886; Organization Established Date 10 Aug 2007; Organization Type: Construction of buildings; Folio Mercantil No. 18349 (Mexico) [SDGT] [ILLICIT-DRUGS-EO14059] (Linked To: NUNEZ RIOS, Jose Raul).

Designated pursuant to section 1(b)(iii) of E.O. 14059 for being owned, controlled, or directed by, or having acted or purported to act for or on behalf of, directly or indirectly, Jose Raul Nunez Rios, a person whose property and interests in property are blocked pursuant to E.O. 14059.

Designated pursuant to section 1(a)(iii)(A) of E.O. 13224, as amended, for being owned, controlled, or directed by, or having acted or purported to act for or on behalf of, directly or indirectly, Jose Raul Nunez Rios, a person whose property and interests in property are blocked pursuant to E.O. 13224, as amended.

2. CARPE DIEM SPA, Boulevard Marina Mazatlan 2312, Mazatlan, Sinaloa, Mexico; website www.sheilauriaspa.com; Secondary sanctions risk: section 1(b) of Executive Order 13224, as amended by Executive Order 13886; Phone Number 6692535190; Organization Type: Hairdressing and other beauty treatment [SDGT] [ILLICIT-DRUGS-EO14059] (Linked To: NUNEZ RIOS, Jose Raul).

Designated pursuant to section 1(b)(iii) of E.O. 14059 for being owned, controlled, or directed by, or having acted or purported to act for or on behalf of, directly or indirectly, Jose Raul Nunez Rios, a person whose property and interests in property are blocked pursuant to E.O. 14059.

Designated pursuant to section 1(a)(iii)(A) of E.O. 13224, as amended, for being owned, controlled, or directed by, or having acted or purported to act for or on behalf of, directly or indirectly, Jose Raul Nunez Rios, a person whose property and interests in property are blocked pursuant to E.O. 13224, as amended.

3. CLUB PLAYA REAL, S.A. DE C.V., Mazatlan, Sinaloa, Mexico; Secondary sanctions risk: section 1(b) of Executive Order 13224, as amended by Executive Order 13886; Organization Established Date 08 Aug 2000; Organization Type: Tour operator activities; Folio Mercantil No. 13435 (Mexico) [SDGT] [ILLICIT-DRUGS-EO14059] (Linked To: NUNEZ RIOS, Jose Raul).

Designated pursuant to section 1(b)(iii) of E.O. 14059 for being owned, controlled, or directed by, or having acted or purported to act for or on behalf of, directly or indirectly, Jose Raul Nunez Rios, a person whose property and interests in property are blocked pursuant to E.O. 14059.

Designated pursuant to section 1(a)(iii)(A) of E.O. 13224, as amended, for being owned, controlled, or directed by, or having acted or purported to act for or on behalf of, directly or indirectly, Jose Raul Nunez Rios, a person whose property and interests in property are blocked pursuant to E.O. 13224, as amended.

4. COMERCIALIZADORA COPADO, S.A. DE C.V., Mazatlan, Sinaloa, Mexico; Secondary sanctions risk: section 1(b) of Executive Order 13224, as amended by Executive Order 13886; Organization Established Date 20 Mar 2007; Organization Type: Wholesale of other household goods; Folio Mercantil No. 18195 (Mexico) [SDGT] [ILLICIT-DRUGS-EO14059] (Linked To: NUNEZ RIOS, Jose Raul).

Designated pursuant to section 1(b)(iii) of E.O. 14059 for being owned, controlled, or directed by, or having acted or purported to act for or on behalf of, directly or indirectly, Jose Raul Nunez Rios, a person whose property and interests in property are blocked pursuant to E.O. 14059.

Designated pursuant to section 1(a)(iii)(A) of E.O. 13224, as amended, for being owned, controlled, or directed by, or having acted or purported to act for or on behalf of, directly or indirectly, Jose Raul Nunez Rios, a person whose property and interests in property are blocked pursuant to E.O. 13224, as amended.

5. ECO CAMPESTRES ULTRA, S.A.P.I. DE C.V., Mazatlan, Sinaloa, Mexico; Secondary sanctions risk: section 1(b) of Executive Order 13224, as amended by Executive Order 13886; Organization Established Date 02 Jul 2021; Organization Type: Activities of holding companies; Folio Mercantil No. N-2021045595 (Mexico) [SDGT] [ILLICIT-DRUGS-EO14059] (Linked To: NUNEZ RIOS, Jose Raul).

Designated pursuant to section 1(b)(iii) of E.O. 14059 for being owned, controlled, or directed by, or having acted or purported to act for or on behalf of, directly or indirectly, Jose Raul Nunez Rios, a person whose property and interests in property are blocked pursuant to E.O. 14059.

Designated pursuant to section 1(a)(iii)(A) of E.O. 13224, as amended, for being owned, controlled, or directed by, or having acted or purported to act for or on behalf of, directly or indirectly, Jose Raul Nunez Rios, a person whose property and interests in property are blocked pursuant to E.O. 13224, as amended.

6. IMB 24 SIETE, S.A. DE C.V., Mazatlan, Sinaloa, Mexico; Secondary sanctions risk: section 1(b) of Executive Order 13224, as amended by Executive Order 13886; Organization Established Date 14 Jan 2020; Organization Type: Construction of buildings; Folio Mercantil No. N-2020001824 (Mexico) [SDGT] [ILLICIT-DRUGS-EO14059] (Linked To: NUNEZ RIOS, Jose Raul).

Designated pursuant to section 1(b)(iii) of E.O. 14059 for being owned, controlled, or directed by, or having acted or purported to act for or on behalf of, directly or indirectly, Jose Raul Nunez Rios, a person whose property and interests in property are blocked pursuant to E.O. 14059.

Designated pursuant to section 1(a)(iii)(A) of E.O. 13224, as amended, for being owned, controlled, or directed by, or having acted or purported to act for or on behalf of, directly or indirectly, Jose Raul Nunez Rios, a person whose property and interests in property are blocked pursuant to E.O. 13224, as amended.

7. LOS CHAPITOS, Culiacan, Sinaloa, Mexico; Secondary sanctions risk: section 1(b) of Executive Order 13224, as amended by Executive Order 13886; Target Type Criminal Organization [SDGT] [ILLICIT-DRUGS-EO14059] (Linked To: SINALOA CARTEL).

Designated pursuant to section 1(b)(iii) of E.O. 14059 for being owned, controlled, or directed by, or having acted or purported to act for or on behalf of, directly or indirectly, the Sinaloa Cartel, a person whose property and interests in property are blocked pursuant to E.O. 14059.

Designated pursuant to section 1(a)(iii)(A) of E.O. 13224, as amended, for being owned, controlled, or directed by, or having acted or purported to act for or on behalf of, directly or indirectly, the Sinaloa Cartel, a person whose property and interests in property are blocked pursuant to E.O. 13224, as amended.

8. MKT 24 SIETE, S.A. DE C.V., Mazatlan, Sinaloa, Mexico; Secondary sanctions risk: section 1(b) of Executive Order 13224, as amended by Executive Order 13886; Organization Established Date 14 Jun 2017; Organization Type: Advertising; Folio Mercantil No. N-2017047157 (Mexico) [SDGT] [ILLICIT-DRUGS-EO14059] (Linked To: NUNEZ RIOS, Jose Raul).

Designated pursuant to section 1(b)(iii) of E.O. 14059 for being owned, controlled, or directed by, or having acted or purported to act for or on behalf of, directly or indirectly, Jose Raul Nunez Rios, a person whose property and interests in property are blocked pursuant to E.O. 14059.

Designated pursuant to section 1(a)(iii)(A) of E.O. 13224, as amended, for being owned, controlled, or directed by, or having acted or purported to act for or on behalf of, directly or indirectly, Jose Raul Nunez Rios, a person whose property and interests in property are blocked pursuant to E.O. 13224, as amended.

9. MUE RENTA Y VENTA DE VESTIDOS, Avenida Francisco Solis No. 2601, Mazatlan, Sinaloa, Mexico; Secondary sanctions risk: section 1(b) of Executive Order 13224, as amended by Executive Order 13886; Phone Number 6692122948; Organization Type: Hairdressing and other beauty treatment; RFC UIVS940314J20 (Mexico) [SDGT] [ILLICIT-DRUGS-EO14059] (Linked To: NUNEZ RIOS, Jose Raul).

Designated pursuant to section 1(b)(iii) of E.O. 14059 for being owned, controlled, or directed by, or having acted or purported to act for or on behalf of, directly or indirectly, Jose Raul Nunez Rios, a person whose property and interests in property are blocked pursuant to E.O. 14059.

Designated pursuant to section 1(a)(iii)(A) of E.O. 13224, as amended, for being owned, controlled, or directed by, or having acted or purported to act for or on behalf of, directly or indirectly, Jose Raul Nunez Rios, a person whose property and interests in property are blocked pursuant to E.O. 13224, as amended.

10. PROYECTA INTERNA, S.A. DE C.V., Mazatlan, Sinaloa, Mexico; Secondary sanctions risk: section 1(b) of Executive Order 13224, as amended by Executive Order 13886; Organization Established Date 28 Jun 2019; Organization Type: Construction of buildings; Folio Mercantil No. N-2019051209 (Mexico) [SDGT] [ILLICIT-DRUGS-EO14059] (Linked To: NUNEZ RIOS, Jose Raul).

Designated pursuant to section 1(b)(iii) of E.O. 14059 for being owned, controlled, or directed by, or having acted or purported to act for or on behalf of, directly or indirectly, Jose Raul Nunez Rios, a person whose property and interests in property are blocked pursuant to E.O. 14059.

Designated pursuant to section 1(a)(iii)(A) of E.O. 13224, as amended, for being owned, controlled, or directed by, or having acted or purported to act for or on behalf of, directly or indirectly, Jose Raul Nunez Rios, a person whose property and interests in property are blocked pursuant to E.O. 13224, as amended.

11. SEA WA BEACH CLUB, S.A. DE C.V., Mazatlan, Sinaloa, Mexico; Secondary sanctions risk: section 1(b) of Executive Order 13224, as amended by Executive Order 13886; Organization Established Date 07 May 2024; Organization Type: Tour operator activities; Folio Mercantil No. N-2024040456 (Mexico) [SDGT] [ILLICIT-DRUGS-EO14059] (Linked To: NUNEZ RIOS, Jose Raul).

Designated pursuant to section 1(b)(iii) of E.O. 14059 for being owned, controlled, or directed by, or having acted or purported to act for or on behalf of, directly or indirectly, Jose Raul Nunez Rios, a person whose property and interests in property are blocked pursuant to E.O. 14059.

Designated pursuant to section 1(a)(iii)(A) of E.O. 13224, as amended, for being owned, controlled, or directed by, or having acted or purported to act for or on behalf of, directly or indirectly, Jose Raul Nunez Rios, a person whose property and interests in property are blocked pursuant to E.O. 13224, as amended.

Lisa M. Palluconi,
Acting Director, Office of Foreign Assets Control.

[FR Doc. 2025-11018 Filed 6-13-25; 8:45 am]

BILLING CODE 4810-AL-P